DEPARTMENT OF AGRICULTURE

Rural Housing Service

Funding Opportunity: Section 525 Technical and Supervisory Assistance (TSA) Grants

AGENCY: Rural Housing Service, USDA.

ACTION: Notice; correction.

SUMMARY: The Rural Housing Service is correcting a notice published in the Federal Register on Monday, April 17, 2006. This action is taken to correct a State Office address referenced in the contact information of the application and submission portion of the notice. This correction will insure that the applicant receives the most current and accurate information necessary for the submission of the proposal packages.

Accordingly, the notice published on April 17, 2006 (71 FR 19682-19690), is corrected as follows:

On page 19685, in the third column under the heading, “Where to file,” the Delaware & Maryland State Office address is corrected to read as follows: Delaware & Maryland State Office, 1221 College Park Drive, Suite 200, Dover, DE 19904-8724. (302) 857-3600, TDD (302) 857-3585, W. Drew Clendaniel.

FOR FURTHER INFORMATION CONTACT: Nica Mathes, Senior Loan Specialist, USDA Rural Development, Single Family Housing Direct Loan Division, Special Programs and New Initiatives Branch, Mail Stop 0783, Room 2206-S, 1400 Independence Avenue, SW., Washington, DC 20250-0783, Phone: (202) 205-3656 or (202) 720-1474, e-mail: nica.mathes@wdc.usda.gov, or FAX: (202) 720-2232.

Dated: May 5, 2006.
David J. Villano,
Acting Administrator, Rural Housing Service.

[FR Doc. E6-7151 Filed 5-9-06; 8:45 am]

BILLING CODE 3410-XV-P